DEPARTMENT OF LABOR

Employment and Training Administration

[TA-W-72,563; TA-W-72,563A]

Fypon, Ltd., Parkersburg, WV, Including Workers Whose Unemployment Insurance, (UI) Wages Are Paid through Therma-Tru Doors, Parkerburg, WV; Fypon, Ltd., Including On-Site Leased Workers From Job1 USA, Including Workers Whose Unemployment Insurance, (UI) Wages Are Paid Through Therma-Tru Doors, Archbold, OH; Amended Certification Regarding Eligibility To Apply for Worker Adjustment Assistance

In accordance with section 223 of the Trade Act of 1974, as amended (“Act”), 19 U.S.C. 2273, the Department of Labor issued a Certification of Eligibility to Apply for Worker Adjustment Assistance on January 28, 2010, applicable to workers of Fypon, Ltd, Parkersburg, West Virginia and Fypon, Ltd, including on-site Leased workers from Job1 USA, Archbold, Ohio. The notice was published in the Federal Register on March 5, 2010 (75 FR 10321). At the request of the state, the Department reviewed the certification for workers of the subject firm. The workers were engaged in activities related to the production of urethane millwork and PVC trim products for decorative purposes.

New information shows that in late 2009, Fypon Ltd merged with Therma-Tru Doors. Some workers separated from employment at the subject firm had their wages reported under a separate unemployment insurance (UI) tax account under the name Therma-Tru Doors.

Accordingly, the Department is amending this certification to property reflect this matter.

The intent of the Department's certification is to include all workers of the subject firm who were adversely affected by a shift in production of urethane millwork and PVC trim products to China.

The amended notice applicable to TA-W-72,563 and TA-W-72,563A are hereby issued as follows:

All workers of Fypon, Ltd, including workers whose unemployment insurance (UI) wages are paid through Therma-Tru Doors, Parkersburg, West Virginia (TA-W-72,563) and Fypon, Ltd, including workers whose unemployment insurance (UI) wages are paid through Therma-Tru Doors, including on-site leased workers from Job1 USA, Archbold, Ohio (TA-W-72,563A), employment on or after October 9, 2008, through January 28, 2012, and all workers in the group threatened with total or partial separation from employment on date of certification through two years from the date of certification, are eligible to apply for adjustment assistance under Chapter 2 of Title II of the Trade Act of 1974, as amended.

Signed at Washington, DC, this 27th day of April 2010.
Richard Church,
Certifying Officer, Division of Trade Adjustment Assistance.

[FR Doc. 2010-11278 Filed 5-11-10; 8:45 am]

BILLING CODE 4510-FN-P